DEPARTMENT OF COMMERCE

[I.D. 051303A]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Groundfish Tagging Program.

Form Number(s): None.

OMB Approval Number: 0648-0276.

Type of Request: Regular submission.

Burden Hours: 98.

Number of Respondents: 420.

Average Hours Per Response: 5 minutes for a regular tag and 20 minutes for an electronic tag.

Needs and Uses: The Groundfish Tagging Program provides scientists with information necessary for the effective conservation, management, and scientific understanding of the groundfish fishery off Alaska and the Pacific Northwest. Persons recovering tagged fish are requested to supply certain information about the recovery - date of catch, location, tag number, etc. Scientists use such information to analyze distribution of fish, their movements, and other important parameters, and use results in population assessment models and to develop allocation systems.

Affected Public: Business or other for-profit organizations, individuals or households.

Frequency: On occasion.

Respondent's Obligation: Voluntary.

OMB Desk Officer: David Rostker, (202) 395-3897.Copies of the above information collection proposal can be obtained by calling or writing Diana Hynek, Departmental Paperwork Clearance Officer, (202) 482-0266, Department of Commerce, Room 6625, 14th and Constitution Avenue, NW, Washington, DC 20230 (or via the Internet at dHynek@doc.gov).Written comments and recommendations for the proposed information collection should be sent within 30 days of publication of this notice to David Rostker, OMB Desk Officer, Room 10202, New Executive Office Building, Washington, DC 20503.

Dated: May 8, 2003.
Gwellnar Banks,
Management Analyst, Office of the Chief Information Officer.

[FR Doc. 03-12316 Filed 5-15-03; 8:45 am]

BILLING CODE 3510-22-S